Title 3—

The President

Proclamation 8070 of October 13, 2006

National Character Counts Week, 2006

By the President of the United States of America

A Proclamation

America's strength is found in the spirit and character of our people. During National Character Counts Week, we renew our commitment to instilling values in our young people and to encouraging all Americans to remember the importance of good character.

As the primary teachers and examples of character, parents help create a more compassionate and decent society. And as individuals, we all have an obligation to help our children become responsible citizens and realize their full potential. By demonstrating values such as integrity, courage, honesty, and patriotism, all Americans can help our children develop strength and character.

Countless individuals throughout our country demonstrate character by volunteering their time and energy to help neighbors in need. The men and women of our Armed Forces set an example of character by bravely putting the security of our Nation before their own lives. We also see character in the family members, teachers, coaches, and other dedicated individuals whose hearts are invested in the future of our children.

Our changing world requires virtues that sustain our democracy, make self-government possible, and help build a more hopeful future. National Character Counts Week is an opportunity to recognize the depth of America's character and appreciate those who pass on our values to future generations.

NOW, THEREFORE, I, GEORGE W. BUSH, President of the United States of America, by virtue of the authority vested in me by the Constitution and laws of the United States, do hereby proclaim October 15 through October 21, 2006, as National Character Counts Week. I call upon public officials, educators, librarians, parents, students, and all Americans to observe this week with appropriate ceremonies, activities, and programs.

IN WITNESS WHEREOF, I have hereunto set my hand this thirteenth day of October, in the year of our Lord two thousand six, and of the Independence of the United States of America the two hundred and thirty-first.

[FR Doc. 06-8807

Filed 10-17-06; 8:45 am]

Billing code 3195-01-P